DEPARTMENT OF DEFENSE

Office of the Secretary

[Docket ID: DoD-2024-OS-0032]

Submission for OMB Review; Comment Request

AGENCY: Washington Headquarters Services, Department of Defense (DoD).

ACTION: 30-Day information collection notice.

SUMMARY: The DoD has submitted to the Office of Management and Budget (OMB) for clearance the following proposal for collection of information under the provisions of the Paperwork Reduction Act.

DATES: Consideration will be given to all comments received by May 28, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Pentagon Commuter Survey; OMB Control Number 0704-PCTS.

Type of Request: New.

Number of Respondents: 1,000.

Responses per Respondent: 1.

Annual Responses: 1,000.

Average Burden per Response: 3 minutes.

Annual Burden Hours: 50.

Needs and Uses: This information collection assesses commute patterns to and from the Pentagon and Mark Center. This will capture information from individuals that are either federal government employees or contractors of the U.S. government. This data will be aggregated and support annual evaluation of Pentagon and Mark Center transportation management plans to confirm national capital planning commission guidelines.

Affected Public: Individuals or households.

Frequency: Annually.

Respondent's Obligation: Voluntary.

DoD Clearance Officer: Mr. Reginald Lucas.

Dated: April 22, 2025.
Aaron T. Siegel,
Alternate OSD Federal Register Liaison Officer, Department of Defense.

[FR Doc. 2025-07199 Filed 4-25-25; 8:45 am]

BILLING CODE 6001-FR-P